DEPARTMENT OF THE INTERIOR

Bureau of Land Management

[LLUTY0100-09-L12200000.EB0000-24-1A00]

Notice of Intent To Collect Fees on Public Land in Grand County, Utah, Moab Field Office Under the Federal Lands Recreation Enhancement Act (REA)

AGENCY: Bureau of Land Management, Interior.

ACTION: Notice of Intent.

SUMMARY: Pursuant to applicable provisions of the Federal Lands Recreation Enhancement Act (REA), the Moab Field Office of the Bureau of Land Management (BLM) is proposing to begin collecting fees for one group site and three camping areas. These proposed sites are located in Grand County, Utah.

DATES: Effective Date: There will be a 30 day public comment period that will expire on September 4, 2009. The public is urged to participate in the public comment period. Effective six months after the publication of this notice, the Bureau of Land Management, Moab Field Office would initiate fee collection at the Moab Skyway Group Area, and the Entrada Bluffs, Bartlett Wash and Courthouse Rock camping areas, as construction work is completed, unless BLM publishes a Federal Register notice to the contrary. The Utah Resource Advisory Council (RAC), functioning as a Recreation Resource Advisory Committee (RRAC), will review the proposal to charge fees at the sites mentioned above. Future adjustments in the fee amount will be made in accordance with the Moab Field Office's recreation fee business plan covering the sites. Fee adjustments will be made after consultation with the Utah Recreation Resource Advisory Committee and other appropriate advance public notice.

ADDRESSES: Mail: Field Manager, Moab Field Office, 82 East Dogwood, Moab, UT 84532 or momail@ut.blm.gov.

FOR FURTHER INFORMATION CONTACT: Russell von Koch, Recreation Branch Chief, Moab Field Office, Bureau of Land Management, 82 East Dogwood, Moab, UT 84532 (435) 259-2100.

SUPPLEMENTARY INFORMATION: The group site and three camping areas are: Moab Skyway Group Site (T. 26 S., R. 21 E., Sec. 2, within, SLM), Entrada Bluffs camping area (T. 23 S., R. 24 E., Sec. 8, within, SLM), Bartlett Wash camping area (T. 24 S., R. 19 E., Section 14, within, SLM), and Courthouse Rock camping area (T. 24 S., R. 20 E., Sections 17 and 20, within, SLM). Under Section 3(g) of the REA, the Moab Skyway Group Site, and the Entrada Bluffs, Bartlett and Courthouse Rock camping areas will qualify, upon completion, as sites wherein visitors can be charged an “Expanded Amenity Recreation Fee.” Visitors wishing to use the expanded amenities BLM is developing at the four sites would purchase a recreation use permit as described at 43 CFR Part 2930. Pursuant to REA and implementing regulations at 43 CFR Subpart 2933, fees may be charged for overnight camping and group use reservations where specific amenities and services are provided. Specific visitor fees will be identified and posted at the site. Fees must be paid at the self-service pay station located at the camping areas. Fees for the Moab Skyway Group Site must be paid for in advance with the Moab Field Office. People holding the America The Beautiful—The National Parks and Federal Recreational Lands—Senior Pass (i.e., Interagency Senior Pass), a Golden Age Passport, the America the Beautiful—The National Parks and Federal Recreational Lands—Access Pass (i.e. Interagency Access Pass), or a Golden Access Passport will be entitled to a 50 percent fee reduction on all fees except those associated with group reservations. Fees charged for use of the group sites would include a non-refundable site reservation fee and a per person use fee.

The Moab Skyway Group Site and the Entrada Bluffs camping area are within the Colorado Riverway Special Recreation Management Area (SRMA). Within this SRMA, there are twelve similar camping fee sites. The Moab Skyway Group Site, which is within the Moab city limits, would include special developed facilities available for day use only. The Entrada Bluffs site has individual camp sites only. Bartlett Wash and Courthouse Rock would only have individual sites. These two areas are located within the Gemini Bridges/Labyrinth Rims Special Recreation Management Area, which has three similar camping fee sites.

The BLM is committed to provide, and receive fair value for the use of developed recreation facilities and services in a manner that meets public use demands, provides quality experiences and protects important resources. The BLM's policy is to collect fees at all specialized recreation sites, or where the BLM provides facilities, equipment or services, at Federal expense, in connection with outdoor use as authorized by the REA. In an effort to meet increasing demands for services and maintenance of developed facilities, the BLM would implement a fee program for the camping areas. BLM's mission for the camping areas is to ensure that funding is available to maintain facilities and recreational opportunities, to provide for law enforcement presence, to develop additional services, and to protect resources. This mission entails communication with those who will be most directly affected by the camping areas, for example recreationists, other recreation providers, partners, neighbors, and those who will have a stake in solving concerns that may arise throughout the life of the camping areas, including elected officials, and other agencies.

Development of the Moab Skyway Group Site and the Entrada Bluffs, Bartlett and Courthouse camping areas is consistent with the 2008 Moab Resource Management Plan and was analyzed in the Environmental Impact Statement accompanying the plan (EIS UT-060-2007-04). Camping and group use fees would be consistent with other established fee sites in the area including other BLM administered sites in the area and those managed by the USDA Forest Service, USDI National Park Service, and Utah State Parks and Recreation. Future adjustments in the fee amount will be made following the Moab Field Office's recreation fee business plan covering the sites, consultation with the Utah Recreation Resource Advisory Committee and other public notice prior to a fee adjustment.

In December 2004, the REA was signed into law. The REA provides authority for 10 years for the Secretaries of the Interior and Agriculture to establish, modify, charge, and collect recreation fees for use of some Federal recreation lands and waters, and contains specific provisions addressing public involvement in the establishment of recreation fees, including a requirement that Recreation Resource Advisory Committees or Councils have the opportunity to make recommendations regarding establishment of such fees. REA also directed the Secretaries of the Interior and Agriculture to publish advance notice in the Federal Register whenever new recreation fee areas are established under their respective jurisdictions. In accordance with the BLM recreation fee program policy, the Moab Field Office's recreation fee business plan both explains the fee collection process and how the fees will be used at the four sites. BLM will notify and involve the public at each stage of the planning process, including the proposal to collect fees. The Utah RRAC will review the fee proposals at its next meeting, following REA guidelines. Fee amounts will be posted on-site, and at the Moab Field Office, and copies of the business plan will be available at the Moab Field Office and the BLM Utah State Office.

BLM welcomes public comments on this proposal. Before including your address, phone number, e-mail address, or other personal identifying information in your comment, be advised that your entire comment—including your personal identifying information—may be made publicly available at any time. While you can ask us in your comment to withhold from public review your personal identifying information, we cannot guarantee that we will be able to do so.

Authority: 16 U.S.C. 6803(b).

Approved:
Selma Sierra,
State Director.

[FR Doc. E9-18720 Filed 8-4-09; 8:45 am]

BILLING CODE 4310-DQ-P